FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 201175-007.

Agreement Name: Port of NY/NJ Sustainable Services Agreement.

Parties: APM Terminals Elizabeth, LLC; Port Liberty Bayonne LLC; Maher Terminals LLC; Port Liberty New York LLC; Port Newark Container Terminal LLC; Red Hook Container Terminal, LLC.

Filing Party: Carol Lambos; The Lambos Firm LLP.

Synopsis: The Amendment reflects the name changes of member companies GCT Bayonne LP and GCT New York LP to Port Liberty Bayonne LLC and Port Liberty LLC respectively.

Proposed Effective Date: 10/27/2023.

Location: https://www2.fmc.gov/FMC.Agreements.Web/Public/AgreementHistory/8136.

Dated: November 3, 2023.
Carl Savoy,
Federal Register Alternate Liaison Officer.

[FR Doc. 2023-24677 Filed 11-7-23; 8:45 am]

BILLING CODE 6730-02-P